DEPARTMENT OF ENERGY

Federal Energy Regulatory Commission

[Docket No. CP18-89-000]

Notice of Revised Schedule for Environmental Review of the Empire Pipeline, Inc., Empire North Project

This notice identifies the Federal Energy Regulatory Commission staff's revised schedule for the completion of the environmental assessment (EA) for Empire Pipeline, Inc's Empire North Project. The first notice of schedule, issued on August 17, 2018, identified November 20, 2018 as the EA issuance date. However, staff has received all the information necessary to complete our review. As a result, staff has revised the schedule for issuance of the EA.

Schedule for Environmental Review

Issuance of Notice of Availability of the EA—October 30, 2018

90-day Federal Authorization Decision Deadline—January 28, 2019

If a schedule change becomes necessary, an additional notice will be provided so that the relevant agencies are kept informed of the project's progress.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the eLibrary link, select General Search from the eLibrary menu, enter the selected date range and Docket Number excluding the last three digits (i.e., CP18-89), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: October 26, 2018.
Kimberly D. Bose,
Secretary.

[FR Doc. 2018-23992 Filed 11-1-18; 8:45 am]

BILLING CODE 6717-01-P